DEPARTMENT OF ENERGY

Federal Energy Regulatory Commission

[Project No. 2000-010—New York]

Power Authority of the State of New York; Notice of Meetings To Discuss Settlement for Relicensing of the St. Lawrence-FDR Power Project

April 24, 2001.

The establishment of the Cooperative Consultation Process (CCP) Team and the Scoping Process for relicensing of the St. Lawrence-FDR Power Project was identified in the NOTICE OF MEMORANDUM OF UNDERSTANDING, FORMATION OF COOPERATIVE CONSULTATION PROCESS TEAM, AND INITIATION OF SCOPING PROCESS ASSOCIATED WITH RELICENSING THE ST. LAWRENCE-FDR POWER PROJECT issued May 2, 1996, and found in the Federal Register dated May 8, 1996, Volume 61, No. 90, on page 20813.

The following is a list of the tentative meetings for the CCP Team to continue settlement negotiations on ecological and local issues. The meetings will be conducted at the New York Power Authority (NYPA) Robert Moses Powerhouse, at 10:00 a.m., located in Massena, New York.

The CCP Team will meet:

June 21 and 22, 2001

July 17, 2001

August 21, 2001

September 12, 2001

If you would like more information about the CCP Team and the relicensing process, please contact any one of the following individuals:

Mr. Thomas R. Tatham, New York Power Authority, (212) 468-6747, fax (212) 468-6141, e-mail: Tatham,T@NYPA. Gov.

Mr. Bill Little, Esq., New York State Dept. of Environmental Conservation, (518) 457-0986, fax (518) 457-3978, e-mail: WGLittle@GW.DEC.State.NY.US

Dr. Jennifer Hill, Federal Energy Regulatory Commission, (202) 219-2797, fax (202) 219-2152, e-mail: Jennifer.Hill@FERC.Fed.US.

Further information about NYPA and the St. Lawrence-FDR Power Project can be obtained through the Internet at http://www.stl.nypa.gov/index.htm. Information about the Federal Energy Regulatory Commission can be obtained at http://www.ferc.fed.us.

David P. Boergers,
Secretary.

[FR Doc. 01-10586 Filed 4-27-01; 8:45 am]

BILLING CODE 6717-01-M